ENVIRONMENTAL PROTECTION AGENCY

[EPA-HQ-OPPT-2025-0067; FRL-12475-07-OCSPP]

Certain New Chemicals; Receipt and Status Information for July 2025

AGENCY: Environmental Protection Agency (EPA).

ACTION: Notice of receipt and request for comment.

SUMMARY: This document announces the Agency's receipt of new chemical submissions under the Toxic Substances Control Act (TSCA), including information about the receipt of a Premanufacture Notice (PMN), Significant New Use Notice (SNUN), Microbial Commercial Activity Notice (MCAN), and an amendment to a previously submitted notice; test information; a biotechnology exemption application; an application for a test marketing exemption (TME); and a notice of commencement of manufacture (defined by statute to include import) (NOC) for a new chemical substance. This document also provides a periodic status report on the new chemical substances that are currently under EPA review or have recently concluded review. EPA is hereby providing notice of receipt of this information, as required by TSCA, and an opportunity to comment. This document covers the period from 7/1/2025 to 7/31/2025.

DATES: Comments must be received on or before October 14, 2025.

ADDRESSES: Submit your comments, identified by docket identification (ID) number EPA-HQ-OPPT-2025-0067 and the specific case number provided in this document for the chemical substance related to your comment, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information: Jim Rahai, Project Management and Operations Division (7407M), Office of Pollution Prevention and Toxics, Environmental Protection Agency, 1200 Pennsylvania Ave. NW, Washington, DC 20460-0001; telephone number: (202) 564-8593; email address: rahai.jim@epa.gov.

For general information: The TSCA-Hotline, ABVI-Goodwill, 422 South Clinton Ave., Rochester, NY 14620; telephone number: (202) 554-1404; email address: TSCA-Hotline@epa.gov.

SUPPLEMENTARY INFORMATION:

I. Executive Summary

A. Does this action apply to me?

This action provides information that is directed to the public in general.

B. What is the Agency's authority for taking this action?

EPA is publishing this document in the Federal Register as required by sections 5 of the Toxic Substances Control Act (TSCA), 15 U.S.C. 2601 et seq., and corresponding EPA regulations.

Under TSCA, a chemical substance may be either an “existing” chemical substance or a “new” chemical substance, see https://www.epa.gov/chemicals-under-tsca. Any chemical substance that is not on EPA's TSCA Inventory of Chemical Substances (TSCA Inventory) is classified as a “new chemical substance,” while a chemical substance that is listed on the TSCA Inventory is classified as an “existing chemical substance.” See TSCA section 3(2) and (11). For more information about the TSCA Inventory, see https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the new chemical substance or significant new use, and take appropriate action as described in TSCA section 5(a)(3).

TSCA section 5(h)(1) authorizes EPA to allow persons, upon application and under appropriate restrictions, to manufacture a new chemical substance, or manufacture or process a chemical substance subject to a significant new use rule (SNUR) issued under TSCA section 5(a)(2), for “test marketing” purposes, upon a showing that the manufacture, processing, distribution in commerce, use, and disposal of the chemical substances will not present an unreasonable risk of injury to health or the environment. This is referred to as a test marketing exemption, or TME.

Premanufacture notification procedures for review of certain new microbial products of biotechnology are established in 40 CFR part 725. These pertain to MCANs and biotechnology exemptions, including TSCA experimental release applications (TERAs), TMEs for microorganisms, and Tier I and Tier II exemptions.

C. What action is the Agency taking?

This document provides notice of receipt and status reports for the covered period and certain submissions under TSCA section 5 and provides an opportunity to comment on this information. The Agency is providing information about the receipt of PMNs, SNUNs, MCANs, and amendments to a previously submitted notice; test information; biotechnology exemption applications under 40 CFR part 725; TME applications; NOCs for new chemical substances; and a periodic status report on chemical substances that are currently under EPA review or have recently concluded review.

D. What should I consider as I prepare my comments for EPA?

1. Submitting CBI. Do not submit CBI to EPA through https://www.regulations.gov or email. If you wish to include CBI in your comment, please follow the instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR parts 2 and 703.

2. Tips for preparing your comments. When preparing and submitting your comments, see the commenting tips at https://www.epa.gov/dockets/commenting-epa-dockets.

II. Background

A. What information is being provided in this document?

The tables in this document provide the following information on the TSCA section 5 submissions received by EPA during this period and determined to be complete consistent with 40 CFR 720.70(a).

• Case number. The EPA number assigned to the TSCA section 5 submissions. Please note that a case number may be listed more than once in the table when the submission involves a subsequent amendment.

• Chemical substance. Name of the chemical substance, or generic name if the specific name is claimed as CBI.

• Manufacturer. Name of the submitting manufacturer, to the extent that such information is not subject to a CBI claim. The term “manufacturer” is defined by statute to include importer.

• Use(s). Potential uses identified by the manufacturer.

• Received. Date the submission was received by EPA.

• Commencement. Date of commencement provided by the submitter in the NOC.

• Test information. For test information received, the type of test information submitted to EPA based on the attachment type and subtype data selected by the submitter.

B. What do the acronyms mean that are used in the tables?

As used in each of the tables, the following explanations apply:

• (S) indicates that the information in the table is the specific information provided by the submitter.

• (G) indicates that the information in the table is generic information because the specific information provided by the submitter was claimed as CBI.

C. How can I access other information about TSCA section 5 submissions?

EPA provides information on its website about cases reviewed under TSCA section 5, including the PMNs, SNUNs, MCANs, and exemption applications received; the date of receipt; the final EPA determination on the submission; and the effective date of EPA's determination. See https://www.epa.gov/reviewing-new-chemicals-under-toxic-substances-control-act-tsca/status-pre-manufacture-notices. In addition, information EPA receives about chemical substances under TSCA, including non-CBI new chemical submissions, can be accessed in ChemView at https://chemview.epa.gov/chemview.

III. Receipt Reports

Table 1 provides non-CBI information for the PMNs, SNUNs and MCANs received by EPA that have passed an initial screening and determined to be complete consistent with 40 CFR 720.70(a) during this period.

Table 1—PMN/SNUN/MCANs Received and Under Review
Case No. | Received date | Manufacturer | Use | Chemical substance
P-22-0071 | 07/02/2025 | CBI | (G) Industrial Surfactant | (S) D-Glucopyranose, oligomeric, maleates, C9-11-alkyl glycosides, sulfonated, potassium salts.
P-22-0072 | 07/02/2025 | CBI | (G) Industrial Surfactant | (S) D-Glucopyranose, oligomeric, maleates, decyl octyl glycosides, sulfonated, potassium salts.
P-22-0073 | 07/02/2025 | CBI | (G) Industrial Surfactant | (S) D-Glucopyranose, oligomeric, maleates, C10-16-alkyl glycosides, sulfonated, potassium salts.
P-24-0006 | 07/07/2025 | CBI | (S) Oilfield Production Scale Inhibitor | (G) Propenoic acid, methyl-[phosphinicobis(oxy-ethanediyl)] ester, telomer with methyl-methyl-propenoate, (phosphonooxy) ethyl methyl-propenoate, propenoic acid, sodium methyl-[(oxo-propen-yl)amino]-propanesulfonate and sodium sulfite, sodium salt, peroxydisulfuric acid sodium salt-initiated.
P-24-0179 | 07/15/2025 | CBI | (G) Component in batteries | (G) Aluminum- and metal-doped cobalt metal nickel oxide.
P-24-0180 | 07/15/2025 | CBI | (G) Component in batteries | (G) Aluminum- and metal- and metal-doped cobalt metal nickel oxide.
P-24-0181 | 07/15/2025 | CBI | (G) Component in batteries | (G) Metal- and metal-doped cobalt metal metal nickel oxide.
P-25-0025 | 07/10/2025 | CBI | (G) Photolithography | (G) Carbomonocyclic alcohol, 4,4-[[6-(heteroatom-substituted carbomonocycle)-heteromonocycle-2,4-diyl]heteroatom-substituted] bis-.
P-25-0118 | 07/01/2025 | CBI | (G) Liquid formulation and solid formulation of biocatalyst used in a variety of products | (G) Neutral Protease.
P-25-0119 | 07/03/2025 | Valerian Materials, Inc | (S) Intermediate used for monomer manufacturing, R&D chemical, Precursor monomer for polymers manufacturing. Industrial applications: Textiles, Coatings and Paints, Sealants, Footwear | (S) -Methyl—valerolactone.
P-25-0120 | 07/03/2025 | CBI | (G) Ink, pellet and paint component | (G) Butanamide, [(dialkoxy[biscarbomonocyclic]-diyl) bis(substituted)] bis [(halo-dialkoxy carbomonocycle)-substituted.
P-25-0121 | 07/08/2025 | CBI | (G) Ink component, Ingredient in ink | (G) Butanamide, [(dihalo[biscarbomonocyclic]-diyl) bis(substituted)] bis [substituted, bis [substituted carbomonocycle and carbomonocyclic] derivs.
P-25-0122 | 07/09/2025 | CBI | (G) Ink, pellet and paint component | (G) Butanamide, [(dihalo[biscarbomonocyclic]-diyl) bis(substituted)] bis [substituted, bis [substituted carbomonocycle and halo-dialkoxy carbomonocyclic] derivs.
P-25-0123 | 07/18/2025 | CBI | (G) Ink component, Ingredient in ink | (G) Butanamide, 2,2′-[(dihalo[1,1′-biphenyl]-4,4′-diyl) bis(2,1-diazenediyl)] bis [3-oxo, N,N′-bis (substituted heteropolycyclic and alkyl carbomonocyclic) derivs.
P-25-0124 | 07/18/2025 | CBI | (G) Additive for use in electronics industry | (G) Alkyl aromatic sulfonium, polycyclic alkyl sulfamate.
P-25-0125 | 07/18/2025 | CBI | (G) Substance for the use in manufacturing of battery components | (G) Cobalt lithium manganese nickel oxide, metals.
P-25-0126 | 07/18/2025 | CBI | (G) An ingredient used in the manufacture of photoresist | (G) Carbomonocyclic substituted heteromonocyclic, salt with carbopolycyclic sulfocarboxylate.
P-25-0127 | 07/18/2025 | CBI | (G) An ingredient used in the manufacture of photoresist | (G) Carbomonocyclic sulfonium, salt with carbopolycyclic sulfocarboxylate.
P-25-0128 | 07/21/2025 | CBI | (G) Photolithography | (G) 2-Propenoic acid, 2-methyl-, halo alkyl ester, polymer with ethenylcarbomonocyclic alcohol, dimethyl 2,2-(1,2-diazenediyl) bis [2-alkyl ester]-initiated.
SN-25-0006 | 07/24/2025 | CBI | (S) Substance for use in the manufacture of battery cathodes | (S) Phosphoric acid, iron (2+) lithium salt (1:1:1).
SN-25-0007 | 07/01/2025 | Essential Industries, Inc | (G) Additive used in commercial and consumer applications | (S) Propanoic acid, 3-hydroxy-2-(hydroxymethyl)-2-methyl-, polymer with dimethyl carbonate, 1,2-ethanediamine, 2-ethyl-2-(hydroxymethyl)-1,3-propanediol, 1,6-hexanediol and 1,1′-methylenebis[4-isocyanatocyclohexane], compd. with N,N-diethylethanamine.

Table 2 provides non-CBI information on the NOCs received by EPA that have passed an initial screening during this period.

Table 2—NOCs Received and Under Review
Case No. | Received date | Commencement date | Chemical substance
P-16-0408 | 07/09/2025 | 05/31/2022 | (G) Benzyloxy)-nitrophenyl diazen-1-yl]-hydroxy-dimethyl-2-oxo-dihydropyridine-carbonitrile.
P-21-0184 | 07/23/2025 | 07/22/2025 | (S) Fatty acids, Soya, reaction products with ammonia-ethanolamine reaction by-products.
P-23-0044 | 07/31/2025 | 07/18/2025 | (G) Monoaromatic cyclic alkylene sulfonium fluoroalkyl sulfonic acid salt.
P-23-0080 | 07/31/2025 | 07/18/2025 | (G) Aromatic sulfonium tricyclo fluoroalkyl sulfonic acid salt.
P-23-0168 | 07/29/2025 | 12/20/2024 | (G) Sulfamide fluorophosphate salt.
P-24-0079 | 07/30/2025 | 07/29/2025 | (G) Alkylated succinimide.
P-25-0066 | 07/24/2025 | 06/25/2025 | (G) Sulfonium, bis (dihalo carbomonocycle) carbomonocycle-, salt with dihalo-sulfoalkyl-[(alkenylcarbomonocycle)substituted] trisubstituted benzoate, polymer with alkenylcarbomonocycle and alkylcarbomonocycle alkyl alkenoate.
P-25-0067 | 07/24/2025 | 06/25/2025 | (G) Sulfonium, bis (dihalo carbomonocycle) carbomonocycle-, salt with trihalobenzoate.

Table 3 provides non-CBI information on the test information that has been received by EPA that have passed an initial screening during this period.

Table 3—Test Information Received
Case No. | Received date | Type of test information | Chemical substance
L-25-0030 | 07/25/2025 | Supplemental information | (G) 2-Alkanone, halo-1,1,1-trifluoro-.
P-14-0712 | 06/30/2025 | Polychlorinated Dibenzodioxins and Polychlorinated Dibenzofurans Testing | (S) Waste plastics, pyrolyzed, C5-55 fraction.
P-16-0543 | 07/23/2025 | Monitoring Report | (G) Halogenophosphoric acid metal salt.
P-18-0016 | 07/18/2025 | Photo transformation of Chemicals in Water—Direct Photolysis (OECD Test Guideline 316) | (G) Aromatic sulfonium tricyclo fluoroalkyl sulfonic acid salt.
P-19-0166 | 07/23/2025 | Partition Coefficient (1-Octanol/Water): Slow-Stirring Method (OECD Test Guideline 123); Photo transformation of Chemicals in Water—Direct Photolysis (OECD Test Guideline 316) | (G) Triaryl sulfonium, multicycloalkylalkoxycarbonyloxymonofluoroalkylsulfonate.
P-20-0042 | 07/18/2025 | Photo transformation of Chemicals in Water—Direct Photolysis (OECD Test Guideline 316) | (G) Sulfonium, trisaryl-, 7,7-dialkyl-2-heteropolycyclic -1-alkanesulfonate (1:1).
P-20-0159, P-20-0147, P-20-0152, P-20-0155 | 07/28/2025 | Test data | (G) Phenoxathiin ium, 10-phenyl, 5-alkyl-2-alkyl-4-(2,4,6-substituted tri-carbomonocycle, hetero-acid)benzenesulfonate (1:1); (G) Substituted-2H-thiopyrylium, salt with fluoroalkyl tricycloalkane-carboxylate (1:1); (G) Sulfonium, triphenyl-, salt with 2,2-difluoro-2-sulfoethyl-2-oxo substituted -heterotricycloalkane-heteropolycycle-carboxylate (1:1); (G) Sulfonium, triphenyl-, salt with 5-alkyl- 2-alkyl- 4-(2,4,6-substituted tri-carbomonocycle, hetero-acid)benzenesulfonate (1:1).
P-21-0202 | 07/23/2025 | Water Solubility (Shake Flask Method) (OECD Test Guideline 105); Partition Coefficient (n-Octanol/Water): Shake Flask Method (OECD Test Guideline 107); Dissociation Constants in Water (Conductometric Method) (OECD Test Guideline 112) | (G) Sulfonium, carbomonocycle bis [(Tri haloalkyl) carbomonocycle], substituted carbomonocyclic ester.
P-22-0055 | 07/18/2025 | Photo transformation of Chemicals in Water—Direct Photolysis (OECD Test Guideline 316) | (G) Aromatic sulfonium tricyclo fluoroalkyl sulfonic acid salt.
P-22-0087 | 07/23/2025 | in Vitro Skin Irritation: Reconstructed Human Epidermis Test Method (OECD Test Guideline 439); in Vitro Skin Corrosion: Reconstructed Human Epidermis (RHE) Test Method (OECD Test Guideline 431) | (S) Fatty acids, C18-unsatd., dimers, polymers with acrylic acid, bisphenol A, epichlorohydrin, oleic acid, 2,2′-[oxybis(methylene)] bis[2-ethyl-1,3-propanediol] and phthalic anhydride.
P-22-0129, P-20-0140, P-20-0141, P-20-0142, P-20-0145 | 07/28/2025 | Determination of n-Octanol/Water Partition Coefficient (Slow Stir Method) | (G) Substituted heterocyclic onium compound, salt with heteropolysubstitutedalkyl substitutedtricycloalkane carboxylate (1:1), polymer with 1-alkenyl4-[(alkyl cycloalkyl)oxy]carbomonocycle, 5-ethyloctahydro-4,7-methano-1H-inden-5-yl 2-methyl-2-propenoate, hexahydro-5-oxo-2,6- methanofuro[3,2-b]furan-3-yl 2-methyl-2-propenoate and 4-hydroxyphenyl 2-methyl-2-propenoate; (G) N-Substituted-beta-alanine, heterosubstituted-alkyl ester, ion(1-), triphenylsulfonium (1:1); (G) Sulfonium, [4-(1,1-dimethylethyl)phenyl]diphenyl-, salt with heterosubstituted-alkyl Tri cycloalkane-carboxylate (1:1); (G) Dibenz thiophenium, 5-phenyl-, salt with 2,2-difluoro-2-sulfoethyl substituted-heterotricycloalkane-carboxylate (1:1); (G) Substituted heterocyclic onium compound, salt with fluoropoly substitutedalkyl substituted Tri cycloalkane carboxylate (1:1), polymer with disubstituted aromatic compound and 1-methylcyclopentyl 2-methyl-2-propenoate, di-Me 2,2′-(1,2-diazenediyl)bis[2-methylpropanoate]-initiated.
P-23-0037 | 07/18/2025 | Photo transformation of Chemicals in Water—Direct Photolysis (OECD Test Guideline 316) | (G) Monoaromatic cyclic alkylene sulfonium fluoroalkyl sulfonic acid salt.
P-23-0044 | 07/18/2025 | Photo transformation of Chemicals in Water—Direct Photolysis (OECD Test Guideline 316) | (G) Monoaromatic cyclic alkylene sulfonium fluoroalkyl sulfonic acid salt.
P-23-0050, P-19-0114, P-19-0133, P-20-0122, P-20-0139 | 07/28/2025 | Test data | (G) Substituted heterocyclic onium compound, salt with heteropolysubstitutedalkylsubstitutedtricycloalkanecarboxylate (1:1), polymer with 3-ethenylphenol and heterosubstitutedaromaticalkyl 2-methyl-2-propenoate, di-Me 2,2′-(1,2-diazenediyl)bis[2-methylpropanoate]-initiated; (G) Sulfonium, triphenyl-, trifluoro-hydroxy-(triheterosubstitutedalkyl)alkanoate (1:1); (G) Heterodisubstituted-bile acid, 1-(difluorosulfomethyl)-2,2,2-trifluoroethyl ester, ion(1-), (5)-, triphenylsulfonium (1:1); (G) Heterocyclic onium compound with fluoro substitutedalkyl 2-methyl-2-propenoate (1:1), polymer with acenaphthylene, 4-ethenyl-alpha, alphadimethylbenzenemethanol and 4-ethenylphenyl acetate, hydrolyzed; (G) Sulfonium, triphenyl-, 1,2-fluoroalkyltricycloalkyl-1-carboxylate (1:1).
P-23-0080 | 07/18/2025 | Photo transformation of Chemicals in Water—Direct Photolysis (OECD Test Guideline 316) | (G) Aromatic sulfonium tricyclo fluoroalkyl sulfonic acid salt.
P-23-0093 | 07/18/2025 | Photo transformation of Chemicals in Water—Direct Photolysis (OECD Test Guideline 316) | (G) Aromatic Dibenzothiophenium fluoroalkyl carbopolycycle sulfonic acid salt.
P-24-0160 | 07/18/2025 | Photo transformation of Chemicals in Water—Direct Photolysis (OECD Test Guideline 316) | (G) Iodonium, bis (dialkyl carbomonocycle) salt with alkyl carbomonocycle hetero acid.
P-24-0185, P-19-0078, P-19-0079, P-19-0111, P-19-0112 | 07/28/2025 | Determination of n-Octanol/Water Partition Coefficient (Slow Stir Method) | (G) Sulfonium, triphenyl-, salt with fluoro sulfoalkyl-fluoroalkyl substituted-heterotricycloalkane-carboxylate (1:1); (G) Substituted heterocyclic onium compound, salt with 2,2,2-trifluoro-1-(sulfomethyl)-1-(trifluoromethyl)ethyl 3-[(2-methyl-1-oxo-2-propen-1- yl)oxy]tricycle[3.3.1.13,7]decane-1-carboxylate (1:1), polymer with acenaphthylene, 1-ethenyl-4-[(1-ethylcyclopentyl)oxy]benzene and 4- ethenylphenol, di-Me 2,2′-(1,2-diazenediyl)bis[2-methylpropanoate]-initiated; (G) substituted heterocyclic onium compound, salt with 2,2,2-trifluoro-1-(sulfomethyl)-1-(trifluoromethyl)ethyl 3-[(2-methyl-1-oxo-2-propen-1-yl)oxy]tricyclo[3.3.1.13,7]decane-1-carboxylate (1:1), polymer with acenaphthylene, 1-ethenyl-4-[[1-(1-methylethyl)cyclopentyl]oxy]benzene and 4-ethenylphenol, di-Me 2,2′-(1,2-diazenediyl)bis[2-methylpropanoate]-initiated; (G) Dibenzothiophenium, trifluoro-hydroxy-(triheterosubstitutedalkyl)alkanoate (1:1); (G) Substituted heterocyclic onium compound, salt with 1-(difluorosulfomethyl)-2,2,2-trifluoroethyl 3-[(2-methyl-1-oxo-2-propen-1- yl)oxy]tricyclo[3.3.1.13,7]decane-1-carboxylate (1:1), polymer with 3-etheylphenol, 1-(1-methylethyl)cyclopentyl 2-methyl-2-propenoate and 1-(7- oxabicyclo[2.2.1]hept-2-yl)cyclopentyl 2-methyl-2-propenoate, di-Me 2,2′-(1,2-diazenediyl)bis[2-methylpropenoate]-initiated.
P-24-0190 | 07/18/2025 | Photo transformation of Chemicals in Water—Direct Photolysis (OECD Test Guideline 316) | (G) Aromatic sulfonium tricyclo salt with alkyl carbomonocycle hetero acid.
P-25-0016 | 07/18/2025 | Photo transformation of Chemicals in Water—Direct Photolysis (OECD Test Guideline 316) | (G) Tri haloaromatic iodonium dicyclo salt with polyhaloalkyl carbomonocycle hetero acid.
P-25-0028, P-17-0178, P-18-0013, P-18-0014, P-18-0037 | 07/29/2025 | Determination of n-Octanol/Water Partition Coefficient (Slow Stir Method) | (G) Heteroonium, tri(substitutedaromatichydrocarbon)-, nitrate (1:1); (G) Sulfonium, triphenyl-, salt with substituted-alkyl 4-substituted-benzoate; (G) Sulfonium, pheno carbopolycycle, inner salt; (G) Sulfonium, triphenyl-, salt with disubstituted-heterocyclic compound (1:1); (G) Sulfonium, triphenyl-, salt with 2,4,5-trisubstituted-benzenesulfonate (1:1).
P-25-0066 | 07/23/2025 | Water Solubility (Shake Flask Method) (OECD Test Guideline 105); Partition Coefficient (n-Octanol/Water): Shake Flask Method (OECD Test Guideline 107); Dissociation Constants in Water (Conductometric Method) (OECD Test Guideline 112) | (G) Sulfonium, bis (dihalo carbomonocycle) carbomonocycle-, salt with dihalo-sulfoalkyl [(alkenylcarbomonocycle)substituted] trisubstituted benzoate, polymer with alkenylcarbomonocycle and alkylcarbomonocycle alkyl alkenoate.
P-25-0067 | 07/23/2025 | Water Solubility (Shake Flask Method) (OECD Test Guideline 105); Partition Coefficient (n-Octanol/Water): Shake Flask Method (OECD Test Guideline 107); Dissociation Constants in Water (Conductometric Method) (OECD Test Guideline 112) | (G) Sulfonium, bis (dihalo carbomonocycle) carbomonocycle-, salt with trihalobenzoate.
P-25-0097 | 07/18/2025 | Photo transformation of Chemicals in Water—Direct Photolysis (OECD Test Guideline 316) | (G) Aromatic sulfonium tricyclo salt with dicycloalkyl carbomonocycle hetero acid.
P-25-0100 | 07/18/2025 | Photo transformation of Chemicals in Water—Direct Photolysis (OECD Test Guideline 316) | (G) Aromatic sulfonium tricyclo salt with alkyl carbomonocycle hetero acid.
P-25-0102 | 07/18/2025 | Photo transformation of Chemicals in Water—Direct Photolysis (OECD Test Guideline 316) | (G) Carboheterocyclo aromatic sulfonium salt with dicycloalkyl carbomonocycle hetero acid.
P-25-0110 | 07/29/2025 | 28 Day Repeated Dose Oral Toxicity Study in Rats, IUCLID Summaries, Vapor Pressure Report, Statement of environmental monitoring test, Acute Dermal Toxicity in Rats, Activated Sludge Respiration Inhibition Test, OECD-HT Vapor Pressure, Adsorption coefficient on soil and sewage sludge, Ready Biodegradability-CO2 evolution, Daphnia magna reproduction study, Fish acute toxicity study, In vitro mammalian cell gene mutation study, Prenatal developmental toxicity study, Physical Chemical Properties 2, OECD HT Adsorption coefficient, OECD HT Hydrolysis as a function of pH, OECD HT Partition Coefficient, OECD HT Water Solubility
P-25-0111 | 07/18/2025 | Photo transformation of Chemicals in Water—Direct Photolysis (OECD Test Guideline 316) | (G) Haloaromatic iodonium dicyclo salt with polyfluoroalkyl carbomonocycle hetero acid.
P-25-0112 | 07/18/2025 | Photo transformation of Chemicals in Water—Direct Photolysis (OECD Test Guideline 316) | (G) Haloaromatic iodonium dicyclo salt with halogenated hydroxyaryl carboxylic acid.

IV. Status Reports

Information about the TSCA section 5 PMNs, SNUNs, MCANs, and exemption applications received, including the date of receipt, the status of EPA's review, the final EPA determination, and the effective date of EPA's determination, is available online at: https://www.epa.gov/reviewing-new-chemicals-under-toxic-substances-control-act-tsca/status-pre-manufacture-notices.

Authority: 15 U.S.C. 2601 et seq.

Dated: September 9, 2025.
Mary Elissa Reaves,
Director, Office of Pollution Prevention and Toxics.

[FR Doc. 2025-17563 Filed 9-10-25; 8:45 am]

BILLING CODE 6560-50-P